DEPARTMENT OF TRANSPORTATION

Federal Aviation Administration

14 CFR Part 71

[Docket No. FAA-2015-0690; Airspace Docket No. 15-AWA-1]

RIN 2120-AA66

Amendment of Class C Airspace; Burbank, CA

AGENCY: Federal Aviation Administration (FAA), DOT.

ACTION: Final rule, technical amendment.

SUMMARY: This action amends the name and geographic coordinates of the Burbank-Glendale-Pasadena Airport at Burbank, CA. The Burbank-Glendale-Pasadena Airport has been renamed Bob Hope Airport and geographic coordinates are updated to reflect recent surveys of the airport.

DATES: Effective date 0901 UTC, December 10, 2015. The Director of the Federal Register approves this incorporation by reference action under title 1, Code of Federal Regulations, part 51, subject to the annual revision of FAA Order 7400.9 and publication of conforming amendments.

ADDRESSES: FAA Order 7400.9Z, Airspace Designations and Reporting Points, and subsequent amendments can be viewed online at http://www.faa.gov/air_traffic/publications/. For further information, you can contact the Airspace Policy and Regulations Group, Federal Aviation Administration, 800 Independence Avenue SW., Washington, DC 20591; telephone: (202) 267-8783. The Order is also available for inspection at the National Archives and Records Administration (NARA). For information on the availability of this material at NARA, call (202) 741-6030, or go to http://www.archives.gov/federal_register/code_of_federal-regulations/ibr_locations.html.

FAA Order 7400.9, Airspace Designations and Reporting Points, is published yearly and effective on September 15.

FOR FURTHER INFORMATION CONTACT: Jason Stahl, Airspace Policy and Regulations Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the air traffic service route structure in the north central United States to maintain the efficient flow of air traffic.

History

During a biennial review of the Burbank-Glendale-Pasadena Airport's airspace the FAA identified that the airport's name had been changed to Bob Hope Airport and the geographic coordinates were incorrect. This action updates the name and geographic coordinates to coincide with the FAA's aeronautical database for the respective Class C airspace area.

Class C airspace designations are published in paragraph 4000 of FAA Order 7400.9Z dated August 6, 2015, and effective September 15, 2015, which is incorporated by reference in 14 CFR 71.1. The Class C airspace designations listed in this document will be published subsequently in the Order.

Availability and Summary of Documents for Incorporation by Reference

This document amends FAA Order 7400.9Z, airspace Designations and Reporting Points, dated August 6, 2015, and effective September 15, 2015. FAA Order 7400.9Z is publicly available as listed in the ADDRESSES section of this final rule. FAA Order 7400.9Z lists Class A, B, C, D, and E airspace areas, air traffic service routes, and reporting points.

The Rule

This amendment to Title 14, Code of Federal Regulations (14 CFR) part 71 amends the Class C airspace within which all aircraft operators are subject to operating rules and equipment requirements of Part 91 of the Federal Aviation Regulations (see 14 CFR 91.130). The name of the Burbank-Glendale-Pasadena Airport is changed to Bob Hope Airport and the geographic coordinates are updated. This rule is meant to insure pilots do not confuse instructions provided to them by Air Traffic Control.

This is an administrative change and does not affect the boundaries, altitudes, or operating requirements of the airspace, therefore, notice and public procedure under 5 U.S.C. 553(b) is unnecessary.

Regulatory Notices and Analyses

The FAA has determined that this regulation only involves an established body of technical regulations for which frequent and routine amendments are necessary to keep them operationally current, is non-controversial and unlikely to result in adverse or negative comments. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for Part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order 7400.9Z, Airspace Designations and Reporting Points, dated August 6, 2015, effective September 15, 2015, is amended as follows:

Paragraph 4000 Class C Airspace

* * * * *

AWP CA C Burbank-Glendale-Pasadena Airport, CA [Remove]

AWP CA C Burbank, CA [New]

Bob Hope Airport, CA

(Lat. 34°12′03″ N., long. 118°21′31″ W.)

Whiteman Airport

(Lat. 34°15′35″ N., long. 118°24′48″ W.)

That airspace extending upward from the surface to and including 4,800 feet MSL within a 5-mile radius of Bob Hope Airport excluding that airspace below 3,000 feet MSL within a 1.8-mile radius of Whiteman Airport, and excluding that airspace below 3,500 feet MSL east of a direct line from a point 5 miles on the 004° bearing from the airport to a point 5 miles on the 090° bearing from the airport; and that airspace extending upward from 3,000 feet MSL to and including 4,800 feet MSL within a 10-mile radius of Bob Hope Airport from the 104° bearing clockwise to the 004° bearing from the airport excluding that airspace south of the north boundary of the Los Angeles, CA, Class B airspace area, and excluding that airspace beyond an 8-mile radius north and east of the 294° bearing, and excluding that airspace beyond 5 miles north and east of a line from a point 8 miles on the 343° bearing from the airport to a point 5 miles on the 004° bearing from the airport.

Issued in Washington, DC, on September 15, 2015.
Gary A. Norek,
Manager, Airspace Policy and Regulations Group.

[FR Doc. 2015-23994 Filed 9-23-15; 8:45 am]

BILLING CODE 4910-13-P